DEPARTMENT OF COMMERCE

National Oceanic and Atmospheric Administration

Determination Regarding Review of Nomination for Hudson Canyon National Marine Sanctuary

AGENCY: Office of National Marine Sanctuaries (ONMS), National Ocean Service (NOS), National Oceanic and Atmospheric Administration (NOAA), Department of Commerce (DOC).

ACTION: Notice.

SUMMARY: In January 2022, the National Oceanic and Atmospheric Administration (NOAA) requested written comments to facilitate the five-year review of the nomination for Hudson Canyon National Marine Sanctuary (NMS). NOAA requested relevant and new information pertaining to its 11 sanctuary nomination evaluation criteria. In particular, NOAA sought any additional details about the area's natural or cultural resources, emerging threats to these resources, and evolving management efforts or human uses in the proposed area (e.g., wind energy proposals). After reviewing the information gathered through the public process and completing an internal analysis of readily-available and relevant information on the proposed area, NOAA has determined the Hudson Canyon NMS nomination will remain on the inventory until at least February 23, 2027.

DATES: This determination is applicable on February 23, 2022.

ADDRESSES: Matt Brookhart, Eastern Regional Director, NOAA Sanctuaries Eastern Region, 1305 East West Highway, N/NMS, Silver Spring, MD 20910, or at Matt.Brookhart@noaa.gov, and at https://nominate.noaa.gov/nominations/.

FOR FURTHER INFORMATION CONTACT: LeAnn Hogan, Regional Operations Coordinator, NOAA Sanctuaries Eastern Region, 1305 East-West Highway, N/NMS, Silver Spring, MD 20910, or at LeAnn.Hogan@noaa.gov, or at 202-731-0678.

SUPPLEMENTARY INFORMATION:

Background Information

In June 2014, NOAA issued a final rule establishing the sanctuary nomination process (SNP), which details how communities may submit nominations to NOAA for consideration of national marine sanctuary designation (79 FR 33851). NOAA moves successful nominations to an inventory of areas that could be considered for national marine sanctuary designation. The final rule establishing the SNP included a five-year limit on any nomination added to the inventory that NOAA does not advance for designation.

In November 2019, NOAA issued a notice (84 FR 61546) to clarify procedures for evaluating and updating a nomination as it approaches the five-year mark on the inventory of areas that could be considered for national marine sanctuary designation. The clarified procedure is intended to ensure the inventory contains nominations that remain relevant and responsive to the 11 national significance criteria and management considerations. The 11 criteria can be found at https://nominate.noaa.gov. The process to update a nomination that is about to expire includes the following steps:

1. ONMS notifies the nominating party prior to the five-year mark of the nominated area's time on the inventory to give the nominator an opportunity to provide updates on the nominated area's relevance to the 11 sanctuary nomination evaluation criteria.

2. ONMS works with partners and the public to gather information on the nominated area's relevance to the 11 sanctuary nomination evaluation criteria.

3. ONMS reviews the information received from the original nominating party, partners, the public, Indigenous communities, and other relevant sources to update any information on the 11 criteria, assess the level of community-based support for the nomination from a broad range of interests, and determine if that support has increased or decreased since the time of nomination. Based on this information, ONMS assesses if the nomination is still accurate and relevant.

4. ONMS produces a report for the ONMS Director that presents an analysis of the information that has been collected, and recommends whether to maintain the nomination on the inventory, or remove it once the five-year mark is reached.

On January 21, 2022, NOAA issued a request for public comments on the Hudson Canyon NMS nomination (87 FR 3283). NOAA requested relevant information pertaining to the 11 sanctuary nomination evaluation criteria for inclusion in the national inventory. Five public comment letters were submitted during this public comment process. The public comment letters can be found at regulations.gov (search for docket number NOAA-NOS-2022-0010). In analyzing these public comment letters, particular attention was given to new scientific information about the national significance of natural and cultural resources, increases or decreases in the threats to resources originally proposed for protection, and evolving management efforts or human uses in the proposed area.

NOAA reviewed the information contained in the public comment letters and has determined that the new information shows that there are changes to the threats to the resources in Hudson Canyon, Hudson Canyon remains an area of national significance, the area has special cultural significance to the Indigenous people of the region, and the natural resources and ecological qualities continue to contribute to the biological productivity of the area. Therefore, this notice serves to inform the public of NOAA's decision to extend the nomination of the Hudson Canyon NMS on the inventory for another five-year period. With this action, NOAA is not proposing to designate Hudson Canyon as a national marine sanctuary.

Authority: 16 U.S.C. 1431 et seq.

John Armor,
Director, Office of National Marine Sanctuaries, National Ocean Service, National Oceanic and Atmospheric Administration.

[FR Doc. 2022-04076 Filed 2-25-22; 8:45 am]

BILLING CODE 3510-NK-P